DEPARTMENT OF DEFENSE

Office of the Secretary

[Transmittal No. 25-91]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-91, Policy Justification, and Sensitivity of Technology.

Dated: February 4, 2026.
Stephanie J. Bost,
Alternate OSD Federal Register Liaison Officer, Department of Defense.

BILLING CODE 6001-FR-P

BILLING CODE 6001-FR-C

Transmittal No. 25-91

Notice of Proposed Issuance of Letter of Offer Pursuant to Section 36(b)(1) of the Arms Export Control Act, as amended

(i) Prospective Purchaser: Government of Ukraine

(ii) Total Estimated Value:

Major Defense Equipment * | $ 0
Other | $105 million
TOTAL | $105 million

Funding Source: JUMPSTART Funding from Germany

(iii) Description and Quantity or Quantities of Articles or Services under Consideration for Purchase:

Major Defense Equipment (MDE):

None

Non-Major Defense Equipment:

The following non-MDE items will be included: sustainment related articles and services for the PATRIOT air defense system, including the upgrade of M901 launchers to M903 configuration; classified and unclassified prescribed load lists and authorized stockage lists for ground support equipment; other necessary services, ancillaries, spare parts, support, training, and accessories; and other related elements of logistics and program support.

(iv) Military Department: Army (JU-B-UAE)

(v) Prior Related Cases, if any: UP-B-UDC and USAI Cases NX-B-VAB, NW-B-WMA, NW-B-WME, KA-B-WAM, KA-B-WAZ, KA-B-WBA, KA-B-WBB, KA-B-WDE

(vi) Sales Commission, Fee, etc., Paid, Offered, or Agreed to be Paid: None known at this time

(vii) Sensitivity of Technology Contained in the Defense Article or Defense Services Proposed to be Sold: See Attached Annex

(viii) Date Report Delivered to Congress: November 18, 2025

* as defined in Section 47(6) of the Arms Export Control Act.

POLICY JUSTIFICATION

Ukraine—PATRIOT Air Defense System Sustainment

The Government of Ukraine has requested to buy sustainment related articles and services for the PATRIOT air defense system, including the upgrade of M901 launchers to M903 configuration; classified and unclassified prescribed load lists and authorized stockage lists for ground support equipment; other necessary services, ancillaries, spare parts, support, training, and accessories; and other related elements of logistics and program support. The estimated total cost is $105 million.

This proposed sale will support the foreign policy and national security objectives of the United States (U.S.) by improving the security of a partner country that is a force for political stability and economic progress in Europe.

The proposed sale will improve Ukraine's ability to meet current and future threats by further equipping it to conduct self-defense and regional security missions with a more robust local sustainment capability. Ukraine will have no difficulty absorbing these articles and services into its armed forces.

The proposed sale of this equipment and support will not alter the basic military balance in the region.

The principal contractors will be RTX Corporation, located in Arlington, VA, and Lockheed Martin, located in Bethesda, MD. At this time, the U.S. Government is not aware of any offset agreement proposed in connection with this potential sale. Any offset agreement will be defined in negotiations between the purchaser and the contractor.

Implementation of this proposed sale will require the assignment of approximately five additional U.S. Government and fifteen U.S. contractor representatives to the European Combatant Command for the duration of up to one month to support training and periodic meetings.

There will be no adverse impact on U.S. defense readiness as a result of this proposed sale.

Transmittal No. 25-91

Notice of Proposed Issuance of Letter of Offer Pursuant to Section 36(b)(1) of the Arms Export Control Act

Annex

Item No. vii

(vii) Sensitivity of Technology:

1. The PATRIOT air defense system contains sensitive and critical technology. The M903 upgrade will allow for deployment of all the munitions fieldable with the M902 configuration as well as the PATRIOT Advanced Capability-3 (PAC-3) Missile Segment Enhanced (MSE) munition. The MSE variant of the PAC-3 is the next generation of hit-to-kill interceptors and provides expanded battlespace against evolving threats.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Ukraine can provide substantially the same degree of protection for the sensitive technology being released as the U.S. Government. This proposed sale is necessary in furtherance of the U.S. foreign policy and national security objectives outlined in the Policy Justification.

5. All defense articles and services listed in this transmittal have been authorized for release and export to the Government of Ukraine.

[FR Doc. 2026-02393 Filed 2-5-26; 8:45 am]

BILLING CODE 6001-FR-P